DEPARTMENT OF THE INTERIOR

Minerals Mangement Service

Outer Continental Shelf (OCS), Alaska OCS Region, Beaufort Sea Oil and Gas Lease Sale 195, March 2005

AGENCY: Minerals Management Service (MMS), Interior.

ACTION: Request for information and Notice of Intent (NOI) to prepare an Environmental Assessment.

SUMMARY: The Secretary's approved 5-Year OCS Oil and Gas Leasing Program for 2002-2007 provides for 3 sales: Sales 186, 195, and 202 to be held in the Beaufort Sea program area. The pre-sale process incorporated planning and analysis for all three sales. From the initial step in the process (the call for information and nominations (call)) through the final Environmental Impact Statement (EIS)/Consistency Determination (CD) step, the process covered the multiple sale proposals. However, there will be complete National Environmental Policy Act (NEPA), OCS Lands Act, and Coastal Zone Management Act coverage for each sale, and each sale will be preceded by a proposed and final notice of sale. The environmental analysis and the CD for Sale 195 will focus primarily on new issues and/or changes in the State's federally-approved coastal management plan.

The call and NOI to prepare an EIS for Sales 186, 195, and 202 was published in the Federal Register on September 19, 2001, at 66 FR 48268. The Beaufort Sea final EIS for Sales 186, 195, and 202 was released in February 2003 (OCS EIS/EA, MMS 2003-001). The first sale, Sale 186, was held on September 24, 2003. The MMS is now initiating a request for information for Beaufort Sea Sale 195.

DATES: Comments on the Request for Information and on the NOI must be received no later than 45 days following publication of this document in the Federal Register in envelopes labeled “Comments on the Request for Information for Beaufort Sea Sale 195” or “Comments on the NOI to Prepare an Environmental Assessment”, as appropriate.

FOR FURTHER INFORMATION CONTACT: Please call Tom Warren at (907) 271-6691 in MMS's Alaska OCS Region regarding questions on the request for information/NOI to prepare an Environmental Assessment.

SUPPLEMENTARY INFORMATION: The environmental analysis and the CD for Sale 195 will focus primarily on new issues that may have arisen since the completion of the EIS for Sales 186, 195, and 202 (February 2003) and on any changes that may have occurred in the State's coastal management plan. The process will lead to identification of the area to be included in the proposed notice of sale. Each of these steps, including the proposed notice of sale, provides for a public comment period. At the culmination of each step and after analysis of any public comments, the MMS will decide whether to proceed to the next step. This process will:

• Focus on the environmental analysis by revising types and levels of impacts that changed since the analysis was done for Sale 186;

• Result in any new issues being more easily highlighted by the public;

• Eliminate issuance for public review of repetitive, voluminous EISs for each sale; and

• Result in a more efficient and responsive application of the NEPA.

The MMS will analyze all comments received in response to this request for information and re-examine information previously submitted in response to the call and the draft and final EISs for Sales 186, 195, and 202. The MMS will then identify the area to be analyzed in the NEPA document.

This request for information does not indicate a decision to lease in the area described below. Final delineation of the areas for possible leasing will be made after completion of the pre-sale steps described above and in compliance with the final 5-year program and applicable laws, including all requirements of the NEPA and the OCS Lands Act.

Request for Information

1. Authority

This request for information is published pursuant to the OCS Lands Act as amended (43 U.S.C. 1331-1356 (1994)) (OCS Lands Act), and the regulations issued thereunder (30 CFR part 256); and in accordance with the OCS Oil and Gas Leasing Program 2002 to 2007.

2. Purpose of Request

The purpose of the request for information is to gather information for Oil and Gas Lease Sale 195 in the Beaufort Sea, scheduled for March 2005. Information on oil and gas leasing, exploration, development, and production within the Beaufort Sea are sought from all interested parties. This early planning and consultation step is important for ensuring that all interests and concerns are communicated to the Department of the Interior for decisions in the leasing process pursuant to the OCS Lands Act and regulations at 30 CFR part 256.

The call published in the Federal Register on September 19, 2001, requested information and nominations from industry for Sales 186, 195, and 202 in the Beaufort Sea Planning Area. The MMS will use the information submitted in response to that call and any new information submitted in response to this request for information to determine the area that will be included in a NEPA analysis. It is not necessary to re-submit comments sent in response to the multiple-sale call or for industry to re-submit their areas of interest if your comments or indications of interest have not changed since that time. This process seeks to identify new areas of concern and areas of interest to industry.

3. Description of Area

The area located offshore the State of Alaska in the Beaufort Sea Planning Area is the subject of this request for information. It extends offshore from about 3 nautical miles to approximately 60 nautical miles, in water depths from approximately 25 feet to 200 feet. A small portion of the outer limits of the sale area north of Harrison Bay drops to approximately 3,000 feet. This area consists of approximately 1,898 whole and partial blocks (about 9.9 million acres). A page-size map of the area accompanies this notice. A large scale request for information map showing the boundaries of the area on a block-by-block basis is available without charge from the Records Manager at the address given below, or by telephone request at (907) 271-6621. Copies of Official Protraction Diagrams (OPDs) are also available for $2 each.

Alaska OCS Region, Minerals Management Service, 949 East 36th Avenue, Room 308, Anchorage, Alaska, 99508-4302; http://www.mms.gov/alaska.

4. Instructions on Request for Information

The request for information map delineates the area that is the subject of this request. Respondents are requested to indicate interest in and comment on any or all of the Federal acreage within the boundaries of the request for information area that they wish to have included in Beaufort Sea Sale 195.

If you wish to comment, you may submit your comments by any one of the following methods:

• You may mail comments to the Alaska OCS Region, Minerals Management Service, 949 East 36th Avenue, Room 308, Anchorage, Alaska 99508-4302.

• You may also comment via e-mail to akrfi@mms.gov. Please submit Internet comments as an ASCII file, avoiding the use of special characters and any form of encryption. Please also include “Attn: Comments on Request for Information for Beaufort Sea Sale 195” and your name and return address in your Internet message. If you do not receive a confirmation from the system that we have received your Internet message, contact us directly at (907) 271-6621.

• Finally, you may hand-deliver comments to the Alaska OCS Region, Minerals Management Service, 949 East 36th Avenue, Room 308, Anchorage, Alaska 99508-4302.

Our practice is to make comments, including names and addresses of respondents, available for public review during regular business hours. Individual respondents may request that we withhold their address from the record, which we will honor to the extent allowable by law. There also may be additional circumstances in which we would withhold a respondent's identity, as allowable by law. If you wish us to withhold your name and/or address, you must state this prominently at the beginning of your comment. However, we will not consider anonymous comments. We will make all submissions from organizations or businesses, and from individuals identifying themselves as representatives or officials of organizations or businesses, available for public inspection in their entirety.

A. Areas of Interest to the Oil and Gas Industry

The MMS requests industry to submit any new information, including nomination of blocks that are of significant interest for exploration, development, and production. Information and nominations submitted in response to the multiple-sale call for Sales 186, 195, and 202, published on September 19, 2001 (66 FT 48268), will also be considered as information and nominations for the Sale 195 area identification process.

Nominations must be depicted on the request for information map by outlining the area(s) of interest along block lines. Nominators are asked to submit a list of whole and partial blocks nominated (by OPD and block number) to facilitate correct interpretation of their nominations on the request for information map. Although the identities of those submitting nominations become a matter of public record, the individual nominations are proprietary information.

Nominators also are requested to rank blocks nominated according to priority of interest (e.g., priority 1 (high), or 2 (medium)). Blocks nominated that do not indicate priorities will be considered priority 3 (low). Nominators must be specific in indicating blocks by priority and be prepared to discuss their range of interest and activity regarding the nominated area(s). The telephone number and name of a person to contact in the nominator's organization for additional information should be included in the response. This person will be contacted to set up a mutually agreeable time and place for a meeting with the Alaska OCS Regional Office to present their views regarding the company's nominations.

B. Relation to Coastal Management Plans

Comments also are sought on potential conflicts with approved local coastal management plans that may result from the sale and future OCS oil and gas activities. These comments should identify specific coastal management plan policies of concern, the nature of the conflicts foreseen, and steps that MMS could take to avoid or mitigate the potential conflicts. Comments may be in terms of broad areas or restricted to particular blocks of concern. Commenters are requested to list block numbers or outline the subject area on the large-scale Request for Information map.

5. Use of Information From the Request for Information

Information submitted in response to this request for information will be used for several purposes. Responses will be used to:

• Help to further identify areas of potential oil and gas development;

• Identify environmental effects and potential use conflicts not previously addressed in the final EIS and CD for Sales 186, 195, and 202 (OCS EIS/EA, MMS 2003-0010);

• Develop any additional lease terms and conditions/mitigating measures that may be necessary; and

• Identify any potential conflicts between oil and gas activities and the Alaska coastal management plan not addressed in the CD for Sale 186.

6. Existing Information

The MMS has acquired a substantial amount of information, including that gained through the use of traditional knowledge, on the issues and concerns related to oil and gas leasing in the Beaufort Sea.

An extensive environmental, social, and economic studies program has been underway in this area since 1975. The emphasis has been on geologic mapping, environmental characterization of biologically sensitive habitats, endangered whales and marine mammals, physical oceanography, ocean-circulation modeling, and ecological and socio-cultural effects of oil and gas activities.

Information on the Studies program, completed studies, and a program status report for continuing studies in this area may be obtained from the Chief, Environmental Studies Section, Alaska OCS Region, by telephone request at (907) 271-6577, or by written request at the address stated under Description of Area. A request may also be made via the Alaska OCS Region Web site at http://www.mms.gov/alaska/ref/pubindex/pubsindex.htm.

7. Tentative Schedule

The following is a list of tentative milestone dates applicable to Beaufort Sea Sale 195 covered by this call:

Request for Information published | December 2003
Area Identification | February 2004
NEPA/Environmental Assessment Review (or Supplemental EIS) published | August 2004
Proposed Notice and CD | October 2004
Final Notice of Sale | February 2005
Tentative Sale Date | March 2005

Notice of Intent To Prepare an Environmental Analysis

1. Authority

The NOI is published pursuant to the regulations (40 CFR 1501.7) implementing the provisions of the NEPA of 1969 as amended (42 U.S.C. 4321 et seq. (1988)).

2. Purpose of Notice of Intent

Pursuant to the regulations (40 CFR 1501.7) implementing the procedural provisions of the NEPA of 1969 (42 U.S.C. 4321 et seq.), MMS is announcing its intent to prepare an environmental assessment for Beaufort Sea Oil and Gas Lease Sale 195, scheduled for March 2005. The environmental assessment will be prepared to determine if there are significant new issues or impacts not previously addressed in the EIS for Sales 189, 195, and 202. If no significant new issues or impacts are identified, a finding of no new significant impacts will be issued. If information is submitted in response to this request for information that identifies significant new issues and/or impacts not previously addressed, a supplemental EIS may be prepared.

3. Instructions on Notice of Intent

Federal, State, tribal, and local governments and other interested parties are requested to send their written comments on new information and issues that should be addressed in the environmental assessment to the Regional Supervisor, Leasing and Environment, Alaska OCS Region, at the address stated under Request for Information, Item 4. Comments should be enclosed in an envelope labeled “Comments on the Notice of Intent to Prepare an Environmental Assessment for Beaufort Sea Sale 195.” Comments are due no later than 45 days from publication of this notice.

Dated: December 2, 2003.
R.M. “Johnnie” Burton,
Director, Minerals Management Service.

[FR Doc. 03-31013 Filed 12-15-03; 8:45 am]

BILLING CODE 4310-MR-P